DEPARTMENT OF THE INTERIOR

U.S. Geological Survey

National Earthquake Prediction Evaluation Council

AGENCY: U.S. Geological Survey.

ACTION: Notice of Meeting.

SUMMARY: Pursuant to Public Law 96-472, the National Earthquake Prediction Evaluation Council (NEPEC) will hold a meeting. The meeting location is the Hilton Palm Springs Resort, 400 East Tahquitz Canyon Way, Palm Springs, California 92262-6605. The Committee is comprised of members from academia and the Federal Government. The Committee shall advise the Director of the U.S. Geological Survey (USGS) on proposed earthquake predictions, on the completeness and scientific validity of the available data related to earthquake predictions, and on related matters as assigned by the Director.

The Council will receive a briefing on the Colaboratory for Study of Earthquake Predictability (CSEP), a report on a workshop on Episodic Tremor and Slip held last winter, and short reports and updates on several other topics. The Council will also discuss the potential need to provide advisory reports on short notice if natural observations suggest an increased earthquake risk, and the form and content of such reports.

Meetings of the National Earthquake Prediction Evaluation Council are open to the public.

DATES: September 10, 2008, commencing at 1 p.m. and adjourning at 4 p.m. on September 11, 2008.

Contact: Dr. William Leith, U.S. Geological Survey, MS 905, 12201 Sunrise Valley Drive, Reston, Virginia 20192, (703) 648-6786, wleith@usgs.gov.

Dated: August 20, 2008.
Suzette M. Kimball,
Associate Director for Geology.

[FR Doc. E8-19727 Filed 8-25-08; 8:45 am]

BILLING CODE 4311-AM-P